DEPARTMENT OF THE INTERIOR

Bureau of Land Management

[NV-030-02-5101-ER-F333]

Notice of Intent To Prepare an Environmental Impact Statement for the Tracy to Silver Lake Power Line Project

AGENCY: Bureau of Land Management, Carson City Field Office, Nevada, Interior.

ACTION: Notice of Intent (NOI) to prepare an environmental impact statement (EIS) for the Tracy to Silver Lake Power Line Project (Project).

SUMMARY: The Bureau of Land Management (BLM), Carson City Field Office intends to prepare an EIS, in cooperation with Washoe County and the Reno-Sparks Indian Colony to analyze the impacts (direct, indirect, and cumulative) resulting from an electrical power line and two substations proposed by Sierra Pacific Power Company. The proposed Project includes the upgrade and extension of an electrical 120 KV transmission line, as well as the construction of two substations, from the existing power plant at Tracy, Nevada to the Silver Lake area near Stead in Washoe County, Nevada. The BLM will work closely with interested parties to identify the best possible alternatives and management decisions that will take into account local, regional, and national needs and concerns. This NOI initiates the public scoping process to identify issues and concerns to be addressed in the EIS.

DATES: The scoping comment period will commence with the publication of this notice. Formal scoping will end 30 days after publication of this notice. Comments on issues and concerns should be received on or before the end of the scoping period at the address listed below. Public meetings will be held throughout the scoping and preparation of the EIS. At least 15 days public notice will be given prior to meetings or activities where the public is invited to attend. Meetings and comment deadlines will be announced through the local and regional news media and the BLM Web site (www.nv.blm.gov/carson). In addition to the ongoing public participation process, formal opportunities will be provided through comment on the Draft EIS (60-day comment period) and the Final EIS (30-day comment period).

ADDRESSES: Written comments should be sent via U.S. Mail to: BLM Carson City Field Office, Attn: Sierra EIS Project Manager, 5665 Morgan Mill Road, Carson City, NV 89701. In addition, comments may be sent via fax at (775) 885-6147 or electronic mail to d2parker@nv.blm.gov. Comments, including names and street addresses of respondents, will be available for public review at the above address during regular business hours (7:30 a.m.-5 p.m.), Monday through Friday, except holidays, and may be published as part of the EIS. Individual respondents may request confidentiality. If you wish to withhold your name or street address from public review or from disclosure under the Freedom of Information Act, you must state this prominently at the beginning of your written comment. However, we will not consider anonymous comments. Such requests will be honored to the extent allowed by law. All submissions from organizations or businesses, and from individuals identifying themselves as representatives or officials of organizations or businesses, will be made available for public inspection in their entirety.

FOR FURTHER INFORMATION: For further information and/or to have your name added to our mailing list, contact David Parker (775) 885-6076 or Terri Knutson (775) 885-6156, BLM Carson City Field Office, Carson City, Nevada.

SUPPLEMENTARY INFORMATION: The EIS will address issues brought forth through scoping and will be evaluated by an interdisciplinary team of BLM, Washoe County, and Reno-Sparks Indian Colony specialists. A range of alternatives and mitigating measures will be considered to evaluate and minimize environmental impacts and to assure that the proposed actions do not result in undue or unnecessary degradation of public lands. Federal, State, and local agencies and other individuals or organizations who may be interested in or affected by the BLM decision on the Tracy to Silver Lake Power Line Project are urged to participate in the EIS process. It is important that those interested in the proposed activities participate in the scoping and commenting processes of the EIS. To be most helpful, comments should be as specific as possible.

Dated: May 14, 2002.
John Singlaub,
Manager, Carson City Field Office.

[FR Doc. 02-16005 Filed 6-24-02; 8:45 am]

BILLING CODE 4310-HC-P